DEPARTMENT OF COMMERCE

National Oceanic and Atmospheric Administration

RINs 0648-AW75 and 0648-AY47

Fisheries of the Northeastern United States; Atlantic Herring Fishery

AGENCY: National Marine Fisheries Service (NMFS), National Oceanic and Atmospheric Administration (NOAA), Commerce.

ACTION: Supplemental Notice of Intent (NOI) to prepare an environmental assessment (EA) for Amendment 4 to the Atlantic Herring Fishery Management Plan (FMP) and environmental impact statement (EIS) for Amendment 5 to the Atlantic Herring FMP; request for comments.

SUMMARY: On May 8, 2008, the New England Fishery Management Council (Council), in cooperation with NMFS, announced its intent to prepare an EIS for Amendment 4 to the Atlantic Herring FMP to analyze the impacts of proposed management measures, which included measures to bring the FMP into compliance with the Magnuson-Stevens Fishery Conservation and Management Act (MSA) requirements to specify annual catch limits (ACLs) and accountability measures (AMs). NMFS hereby notifies the public that only the ACL/AM components will move forward as Amendment 4, and that the Council intends to prepare an EA for the action. All other proposed measures formerly included in Amendment 4, including the catch monitoring program for the herring fishery, measures to address river herring bycatch, criteria for midwater trawl access to groundfish closed areas, and measures to address interactions with the mackerel fishery, will now be considered in Amendment 5. These measures will be analyzed in an EIS. Because comments submitted during the scoping process for Amendment 4 referenced all measures now under consideration in Amendments 4 and 5, the Council is not seeking additional scoping comments from the public at this time.

DATES: Public comments on the supplementary NOI for Amendments 4 and 5 must be received no later than 5 p.m., Eastern Standard Time, on January 12, 2010.

ADDRESSES: Copies of supporting documents used by the Council are available from Paul J. Howard, Executive Director, New England Fishery Management Council, 50 Water Street, Mill 2, Newburyport, MA 01950, (978) 465-0492, or online at http://www.nefmc.org.

Written comments on the supplementary notice of intent for Amendments 4 and 5 may be sent by any of the following methods:

• Electronic Submissions: Submit all electronic public comments via the Federal e-Rulemaking portal: http://www.regulations.gov;

• Mail to Paul J. Howard, Executive Director, New England Fishery Management Council, 50 Water Street, Mill 2, Newburyport, MA 01950. Mark the outside of the envelope “Comments on Herring Amendments 4 and 5;” or

• Fax to Paul J. Howard, (978) 465-3116.

FOR FURTHER INFORMATION CONTACT: Paul J. Howard, Executive Director, New England Fishery Management Council, (978) 465-0492.

SUPPLEMENTARY INFORMATION: The Council initiated Amendment 4 to the Herring FMP for several reasons. The Council determined it was necessary to consider taking action to address issues related to the health of the herring resource throughout its range, how the resource is harvested, how catch/bycatch are accounted for, and the important role of herring as a forage fish in the Northeast region. These concerns are reflected in the high level of interest in managing this fishery by New England's commercial and recreational fishermen, eco-tourism and shoreside businesses, and the general public.

In addition, the MSA was reauthorized in 2007 and requires that NMFS and the Councils establish ACLs and AMs by the year 2011 for every federally managed fishery that is not subject to overfishing. The MSA also includes new provisions for the formation of Limited Access Privilege Programs (LAPPs). The former Amendment 4 was also intended to update the Herring FMP in a manner that is consistent with the new requirements of the MSA.

On May 8, 2008 (73 FR 26082), the Council published a NOI to prepare an EIS for an amendment that might include proposed measures to: improve long-term monitoring of catch (landing and bycatch) in the herring fishery, implement ACLs and AMs consistent with the MSA, and develop a sector allocation process or other LAPP for the herring fishery. The Council subsequently conducted three scoping meetings to discuss and take comments on alternatives to these measures. The first and second meetings were held in Portland, ME, on May 22, 2008, and June 2, 2008. The third meeting was held on June 10, 2008, in Atlantic City, NJ.

After considering the complexity of the issues under consideration in Amendment 4, the Council voted on June 23, 2009, to split the action into two amendments to ensure the statutory requirements for complying with provisions for ACLs and AMs will be met by the 2011 deadline. The ACL and AM component will move forward as Amendment 4. Because the establishment of ACLs and AMs is primarily a process-oriented change, rather than substantive change, the Council now intends to prepare an EA to analyze the impacts of these proposed measures.

The range of alternatives under consideration for ACLs include modifications to the current fishery management specification process for Atlantic herring to ensure the herring FMP's compliance with the MSA, as well as a No Action alternative. Modifications to the specifications process feature new terms and definitions for specifications, changes to the administrative process for setting specifications, and options to either maintain or eliminate specifications for joint venture processing (JVP), internal waters processing (IWP), total allowable level of foreign fishing (TALFF), and reserve total allowable catches (TACs). The range of alternatives for AMs include the No Action alternative, which uses inseason TAC adjustments and management area closures as AMs, and an alternative with options to add ACL overage deductions and a haddock catch cap as additional AMs.

All other measures formerly under consideration in Amendment 4 will now be considered in Amendment 5, and impacts associated with these proposed measures will be analyzed in an EIS. Measures considered under Amendment 5 include:

1. Catch-monitoring program;

2. Measures to address river herring bycatch;

3. Criteria for midwater trawl access to groundfish closed areas; and

4. Measures to address interactions with the Atlantic mackerel fishery.

Alternatives related to these measures are still under development.

The public will have the opportunity to comment on the measures and alternatives being considered by the Council for both amendments through public meetings and public comment periods required by the National Environmental Policy Act, the MSA, and the Administrative Procedure Act. The Council anticipates completing the EA for Amendment 4 in mid-2010, and the EIS for Amendment 5 by late 2011.

Public Hearing Schedule

The Council is conducting the following public hearings to solicit public comments on Amendment 4:

1. Wednesday, January 6, 2010, 5 p.m. to 7 p.m.; Massachusetts Department of Marine Fisheries Annisquam River Station, 30 Emerson Avenue, Gloucester, MA 01930; (978) 282-0308.

2. Thursday, January 7, 2010, 5 p.m. to 7 p.m.; Hampton Inn, One Hampton Way, Fairhaven, MA 02719; (978) 990-8500.

3. Monday, January 11, 2010, 5 p.m. to 7 p.m.; Holiday Inn by the Bay, 88 Spring Street, Portland, ME 04101; (207) 775-2311.

Special Accommodations

The meetings are accessible to people with physical disabilities. Requests for sign language interpretation or other auxiliary aids should be directed to Paul J. Howard (see ADDRESSES) at least 5 days prior to the meeting date.

Authority: 16 U.S.C. 1801 et seq.

Dated: December 18, 2009.
Emily H. Menashes,
Acting Director, Office of Sustainable Fisheries, National Marine Fisheries Service.

[FR Doc. E9-30690 Filed 12-24-09; 8:45 am]

BILLING CODE 3510-22-P